Title 3—

The President

Presidential Determination No. 2004-25 of February 26, 2004

Determination that the Government of Pakistan is Cooperating with the United States in the Global War on Terrorism

Memorandum for the Secretary of State

Consistent with the authority vested in me by the Constitution and laws of the United States, including the Emergency Supplemental Appropriations Act for Defense and for the Reconstruction of Iraq and Afghanistan, 2004 (Public Law 108-106)(the “Act”), I hereby determine for the purposes of that Act that the Government of Pakistan is cooperating with the United States in the Global War on Terrorism.

You are authorized and directed to report this determination to the Congress and to arrange for its publication in the Federal Register.

B

THE WHITE HOUSE,

Washington, February 26, 2004.

[FR Doc. 04-5274

Filed 3-5-04; 8:45 am]

Billing code 4710-10-P